DEPARTMENT OF HEALTH AND HUMAN SERVICES

National Institutes of Health

Center for Scientific Review; Amended Notice of Meeting

Notice is hereby given of a change in the meeting of the Center for Scientific Review Special Emphasis Panel, March 15, 2005, 8 a.m. to March 15, 2005, 6 p.m., Bethesda Marriott, 5151 Pooks Hill Road, Bethesda, MD, 20814 which was published in the Federal Register on February 22, 2005, 70 FR 8597-8599.

The meeting will be held at the Holiday Inn Select Bethesda, 8120 Wisconsin Avenue, Bethesda, MD 20814. The meeting data and time remain the same. The meeting is closed to the public.

Dated: March 4, 2005.
LaVerne Y. Stringfield,
Director, Office of Federal Advisory Committee Policy.

[FR Doc. 05-4919 Filed 3-11-05; 8:45 am]

BILLING CODE 4140-01-M